DEPARTMENT OF ENERGY

Federal Energy Regulatory Commission

[Docket No. RP04-6-001]

Enbridge Pipelines (KPC); Notice of Tariff Filing

October 23, 2003.

Take notice that on October 20, 2003, Enbridge Pipelines (KPC) (KPC) tendered for filing as part of its FERC Gas Tariff, First Revised Volume No. 1, Revised Sheet No. 31A, to amend its FERC Gas Tariff, to be made effective November 1, 2003.

KPC states that the purpose of the filing is to correct a pagination error contained in its September 29, 2003 filing. KPC states that it determined that the sheet filed was designated as Fourth Revised Sheet No. 31A and that it had skipped Third Revised Sheet No. 31A.

KPC requested that (1) it be allowed to withdraw Fourth Revised Sheet No. 31A, (2) replace it with Third Revised Sheet No. 31A and (3) that the Commission remove Fourth Revised Sheet No. 31A from its electronic database such that KPC can use that designation in the future.

KPC states that copies of its transmittal letter and appendices have been mailed to all affected customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00134 Filed 10-29-03; 8:45 am]

BILLING CODE 6717-01-P